INTERNATIONAL TRADE COMMISSION

[Investigation No. 337-TA-617]

In the Matter of Certain Digital Television Products and Certain Products Containing Same and Methods of Using Same; Notice of Commission Determination To Rescind a Limited Exclusion Order and Cease and Desist Order Against Certain Respondents

AGENCY: U.S. International Trade Commission.

ACTION: Notice.

SUMMARY: Notice is hereby given that the U.S. International Trade Commission has determined to rescind a limited exclusion order and cease and desist order issued in the above-captioned investigation with respect to Vizio, Inc.(“Vizio”) and AmTran Technology Co., Ltd.(“AmTran”).

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 15, 2007, based on a complaint filed by Funai Electric Co., Ltd. of Japan and Funai Corporation of Rutherford, New Jersey (collectively “Funai”) against several respondents including Vizio and AmTran. 72 FR 64240 (2007). The complaint alleged violations of Section 337 of the Tariff Act of 1930, as amended, 19 U.S.C. 1337, in the importation into the United States, the sale for importation, and the sale within the United States after importation of certain digital television products and certain products containing same by reason of infringement of one or more claims of U.S. Patent Nos. 6,115,074 (“the `074 patent”) and 5,329,369 (“the `369 patent”).

On April 10, 2009, the Commission terminated this investigation with a finding of violation of Section 337 by reason of infringement of claims 1, 5, and 23 of the `074 patent. 74 FR 17511 (2009). The Commission determined that the appropriate form of relief is (1) a limited exclusion order under 19 U.S.C. 1337(d)(1) prohibiting the unlicensed entry of certain digital television products and certain products containing the same that infringe one or more of claims 1, 5, and 23 of the `074 patent, and are manufactured abroad by or on behalf of, or imported by or on behalf of the respondents, including Vizio and AmTran, or any of their affiliated companies, parents, subsidiaries, or other related business entities, or any of their successors or assigns; and (2) cease and desist orders directed to several respondents, including Vizio.

On August 14, 2009, Funai filed a complaint, asserting that certain respondents, including and Suzhou Raken Technology, Ltd. (“Suzhou”), have violated the Commission's limited exclusion order and cease and desist orders and seeking enforcement under Commission Rule 210.75 (19 CFR 210.75) and temporary emergency action under Commission Rule 210.77 (19 CFR 210.77). Suzhou is a joint venture company established in September 2009 by AmTran and LG Display Co., Ltd. Funai included Suzhou in its enforcement complaint pursuant to the provisions in the limited exclusion order that cover “affiliated companies, parents, subsidiaries, or other related business entities” and the provisions in the Cease and Desist orders that applies to “controlled (whether by stock ownership or otherwise) and majority owned business entities engaging in [prohibited conduct], for, with, or otherwise on behalf of” a named Respondent. Funai accused Suzhou of selling infringing digital televisions sold under at least the brand names Vizio® and Gallevia® in China and then importing them into the United States.

On May 25, 2010, Funai and Vizio, AmTran, and Suzhou (collectively “the Vizio Respondents”) filed a joint motion to terminate the investigation and the enforcement proceeding as to the Vizio Respondents based on a settlement agreement. On May 28, 2010, the ALJ issued an ID granting the joint motion. On June 18, 2010, the Commission determined not to review the ID.

On June 29, 2010, Funai and the Vizio Respondents filed a joint motion for rescission of the remedial orders against Vizio and AmTran pursuant to the settlement agreement. On July 7, 2010, the Commission investigative attorney filed a response supporting the motion.

Having reviewed the parties' submissions, the Commission has determined that the settlement agreement satisfies the requirement of Commission Rule 210.76 (a)(1) (19 CFR 210.76(a)(1)) that there be changed conditions of fact or law. The Commission therefore has issued an order rescinding the limited exclusion order and cease and desist orders previously issued in this investigation with respect to Vizio and AmTran.

The authority for the Commission's determination is contained in Section 337 of the Tariff Act of 1930, as amended (19 U.S.C. 1337), and in section 210.76(a)(1) of the Commission's Rules of Practice and Procedure (19 CFR 210.76(a)(1)).

By order of the Commission.
Issued: August 9, 2010.
Marilyn R. Abbott,
Secretary to the Commission.

[FR Doc. 2010-19982 Filed 8-12-10; 8:45 am]

BILLING CODE 7020-02-P